LEGAL SERVICES CORPORATION

45 CFR Part 1611

Eligibility: Income Level for Individuals Eligible for Assistance

AGENCY: Legal Services Corporation.

ACTION: Final rule.

SUMMARY: The Legal Services Corporation (“Corporation”) is required by law to establish maximum income levels for individuals eligible for legal assistance. This document updates the specified income levels to reflect the annual amendments to the Federal Poverty Guidelines as issued by the Department of Health and Human Services.

EFFECTIVE DATE: February 29, 2000.

FOR FURTHER INFORMATION CONTACT: Victor M. Fortuno, General Counsel, Legal Services Corporation, 750 First Street NE, Washington, DC 20002-4250; (202) 336-8800.

SUPPLEMENTARY INFORMATION: Section 1007(a)(2) of the Legal Services Corporation Act (“Act”), 42 U.S.C. 2996f(a)(2), requires the Corporation to establish maximum income levels for individuals eligible for legal assistance, and the Act provides that other specified factors shall be taken into account along with income.

Section 1611.3(b) of the Corporation's regulations establishes a maximum income level equivalent to one hundred and twenty-five percent (125%) of the Federal Poverty Guidelines. Since 1982, the Department of Health and Human Services has been responsible for updating and issuing the Poverty Guidelines. The revised figures for 2000 set out below are equivalent to 125% of the current Poverty Guidelines as published on February 15, 2000 (65 FR 7555-57).

List of Subjects in 45 CFR Part 1611

Legal services.

For reasons set out in the preamble, 45 CFR part 1611 is amended as follows:

PART 1611—ELIGIBILITY

1. The authority citation for Part 1611 continues to read as follows:

Authority: Secs. 1006(b)(1), 1007(a)(1) Legal Services Corporation Act of 1974, 42 U.S.C. 2996e(b)(1), 2996f(a)(1), 2996f(a)(2).

2. Appendix A of Part 1611 is revised to read as follows:

Appendix A of Part 1611—Legal Services Corporation 2000 Poverty Guideline ¹
Size of family unit | 48 contiguous states ² | Alaska ³ | Hawaii ⁴
1 | $10,438 | $13,038 | $11,988
2 | 14,063 | 17,575 | 16,163
3 | 17,688 | 22,113 | 20,338
4 | 21,313 | 26,650 | 24,513
5 | 24,938 | 31,188 | 28,688
6 | 28,563 | 35,725 | 32,863
7 | 32,188 | 40,263 | 37,038
8 | 35,813 | 44,800 | 41,213
¹ The figures in this table represent 125% of the poverty guidelines by family size as determined by the Department of Health and Human Services.
² For family units with more than eight members, add $3,625 for each additional member in a family.
³ For family units with more than eight members, add $4,538 for each additional member in a family.
⁴ For family units with more than eight members, add $4,175 for each additional member in a family.

Dated: February 23, 2000.
Victor M. Fortuno,
Vice President for Legal Affairs, General Counsel & Corporate Secretary.

[FR Doc. 00-4803 Filed 2-28-00; 8:45 am]

BILLING CODE 7050-01-P